SURFACE TRANSPORTATION BOARD

49 CFR Part 1180

[Docket No. EP 282 (Sub-No. 21)]

Petition for Rulemaking—Railroad Consolidation Procedures—Exemption for Emergency Temporary Trackage Rights

AGENCY: Surface Transportation Board.

ACTION: Petition for rulemaking.

SUMMARY: The Board institutes a rulemaking proceeding to consider a proposal by the Association of American Railroads to establish a new emergency temporary trackage rights class exemption.

DATES: Published in the Federal Register on February 5, 2021. The Board will provide an opportunity for additional public participation in a subsequent decision.

ADDRESSES: Comments and replies may be filed with the Board via e-filing on the Board's website at www.stb.gov and will be posted to the Board's website.

FOR FURTHER INFORMATION CONTACT: Nathaniel Bawcombe at (202) 245-0376. Assistance for the hearing impaired is available through the Federal Relay Service at (800) 877-8339.

SUPPLEMENTARY INFORMATION: On October 9, 2020, the Association of American Railroads (AAR) filed a petition requesting that the Board initiate a rulemaking proceeding to establish a new emergency temporary trackage rights class exemption that could be invoked in specific situations and would allow emergency temporary trackage rights to take effect immediately, without need to waive the 30-day notice requirement under 49 CFR 1180.4(g)(1). AAR argues that the current two-step approach for obtaining temporary trackage rights that take effect on less than 30 days' notice is inefficient, and AAR asserts that its proposed class exemption would benefit shippers, railroads, and the Board by providing a streamlined and simple approach for obtaining temporary trackage rights in emergency situations, ensuring the continued flow of commerce without any decrease in regulatory oversight. (Pet. 1-4.) On November 4, 2020, Samuel J. Nasca, for and on behalf of SMART-Transportation Division-New York State Legislative Board (SMART/TD-NY), filed a reply in opposition to AAR's petition.

The Board concludes that it is appropriate to institute a rulemaking proceeding to consider AAR's proposal. The Board will provide an opportunity for additional public participation in a subsequent decision.

List of Subjects in 49 CFR 1180

Administrative practice and procedure, Railroads, Reporting and recordkeeping requirements.

It is ordered:

1. AAR's request to initiate a rulemaking proceeding is granted, as discussed above.

2. Notice of this decision will be published in the Federal Register.

3. This decision is effective on its service date.

Decided: February 1, 2021.
By the Board, Board Members Begeman, Fuchs, Oberman, Primus, and Schultz.
Kenyatta Clay,
Clearance Clerk.

[FR Doc. 2021-02452 Filed 2-4-21; 8:45 am]

BILLING CODE 4915-01-P